DEPARTMENT OF COMMERCE

National Oceanic and Atmospheric Administration

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Transshipment Requirements under the WCPFC.

OMB Control Number: 0648-0649.

Form Number(s): None.

Type of Request: Regular (extension of a currently approved information collection).

Number of Respondents: 222.

Average Hours per Response: Transshipment Report: 60 minutes; Notice for Transshipment: 15 minutes; Pre-trip Notification for Observer Placement: 1 minute; Purse Seine Discard Report: 30 minutes; Purse Seine Fishing Activity Information: 10 minutes.

Burden Hours: 2,142.

Needs and Uses: This request is for an extension of a currently approved information collection.

National Marine Fisheries Service (NMFS) has issued regulations under authority of the Western and Central Pacific Fisheries Convention Implementation Act (WCPFCIA; 16 U.S.C. 6901 et seq.) to carry out the obligations of the United States under the Convention on the Conservation and Management of Highly Migratory Fish Stocks in the Western and Central Pacific Ocean (Convention). The regulations include requirements for the owners and operators of U.S. vessels to: (1) Complete and submit a Pacific Transshipment Declaration form for each transshipment of highly migratory species in the area of application of the Convention (Convention Area) and each transshipment of highly migratory species caught in the Convention Area; (2) submit a notice containing specific information at least 36 hours prior to each transshipment on the high seas in the Convention Area or within 12 hours of an emergency transshipment that would otherwise be prohibited; (3) provide notice to NMFS at least 72 hours before leaving port of the need for an observer, in the event that a vessel anticipates a transshipment where an observer is required; (4) complete and submit a U.S. Purse Seine Discard form within 48 hours after any discard; and (5) submit certain information regarding purse seine fishing activities.

The information collected from these requirements is used by NOAA and the WCPFC to help ensure compliance with domestic laws and the Commission's conservation and management measures, and are necessary in order for the United States to satisfy its obligations under the Convention.

Affected Public: Business or other for-profit organizations; individuals or households.

Frequency: On occasion.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: December 5, 2018.
Sarah Brabson,
NOAA PRA Clearance Officer.

[FR Doc. 2018-26753 Filed 12-10-18; 8:45 am]

BILLING CODE 3510-22-P